DEPARTMENT OF COMMERCE

National Oceanic and Atmospheric Administration

Evaluation of New Hampshire Coastal Management Program; Notice of Public Meeting; Request for Comments

AGENCY: Office for Coastal Management, National Ocean Service, National Oceanic and Atmospheric Administration, Department of Commerce.

ACTION: Notice of public meeting; request for comments.

SUMMARY: The National Oceanic and Atmospheric Administration (NOAA), Office for Coastal Management, will hold a public meeting to solicit input on the performance evaluation of the New Hampshire Coastal Management Program. NOAA also invites the public to submit written comments.

DATES: A hybrid (i.e., virtual and in-person) public meeting will be held on Monday, November 6, 2023, from 6 to 7 p.m. Eastern Standard Time (EST). NOAA may close the meeting 10 minutes after the conclusion of public testimony and after responding to any clarifying questions from participants. NOAA will consider all written comments received by Friday, November 17, 2023.

ADDRESSES: Comments may be submitted by one of the following methods:

Public Meeting: Provide oral comments during the virtual and in-person public meeting on Monday, November 6, 2023, from 6 to 7 p.m. EST. Both in-person and virtual participants should register if they wish to provide public comment. Virtual participants must register in order to receive an emailed link to the public meeting. The lineup of speakers will be based on the date and time of registration. As time allows, public comment will then be opened to all participants.

• For virtual participation, register as an attendee or speaker at https://forms.gle/xfVFRSALXdMPSgfd6. We request that participants register by Monday, November 6, 2023, at 4 p.m. EST. Please indicate on the registration form whether you intend to provide oral comments during the virtual public meeting by clicking “Yes” or “No” in the box that reads, “Do you plan to make oral comments during this meeting?” Upon registration, NOAA will send a confirmation email. One hour prior to the start of the virtual public meeting on November 6, 2023, NOAA will send an email to all registrants with a link to the public meeting and information about participating. While advance registration is requested, registration will remain open until the meeting closes and any participant may provide oral comment after the registered speakers conclude. Meeting registrants may remain anonymous by typing “Anonymous” in the “First Name” and “Last Name” fields on the registration form.

• For in-person participation, you may attend the public meeting on-site on Monday, November 6, 2023, 6 p.m. to 7 p.m. EST at 222 International Drive #175, Portsmouth, NH 03801. Advance registration to attend on-site is not required. Sign-in registration for providing public comment in person will be available at the meeting venue.

To Submit Comments Via Email: Contact Carrie Hall, Evaluator, NOAA Office for Coastal Management, at czma.evaluations@noaa.gov. Include “Comments on Performance Evaluation of the New Hampshire Coastal Management Program” in the subject line of the message.

NOAA will accept anonymous comments; however, the written comments NOAA receives are considered part of the public record, and the entirety of the comment, including the name of the commenter, email address, attachments, and other supporting materials, will be publicly accessible. Sensitive personally identifiable information, such as account numbers and social security numbers, should not be included with the comment. Comments that are not related to the performance evaluation of the New Hampshire Coastal Management Program, or that contain profanity, vulgarity, threats, or other inappropriate language will not be considered.

FOR FURTHER INFORMATION CONTACT: Carrie Hall, Evaluator, NOAA Office for Coastal Management, by email at Carrie.Hall@noaa.gov or by phone at (240) 410-3422. Copies of the previous evaluation findings and assessment and strategies may be viewed and downloaded at https://coast.noaa.gov/czm/evaluations/. A copy of the evaluation notification letter and most recent progress report may be obtained upon request by contacting Carrie Hall.

SUPPLEMENTARY INFORMATION: Section 312 of the Coastal Zone Management Act (CZMA) requires NOAA to conduct periodic evaluations of federally approved coastal management programs. The evaluation process includes holding one or more public meetings, considering public comments, and consulting with interested Federal, State, and local agencies and members of the public. During the evaluation, NOAA will consider the extent to which the State of New Hampshire has met the national objectives, adhered to the management program approved by the Secretary of Commerce, and adhered to the terms of financial assistance under the CZMA. When the evaluation is complete, NOAA's Office for Coastal Management will place a notice in the Federal Register announcing the availability of the final evaluation findings.

(Authority: 16 U.S.C. 1458.)

Keelin S. Kuipers,
Deputy Director, Office for Coastal Management, National Ocean Service, National Oceanic and Atmospheric Administration.

[FR Doc. 2023-20295 Filed 9-19-23; 8:45 am]

BILLING CODE 3510-JE-P